FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Universal Consolidated Services, Inc., 145-32 157th Street, Suite 228, Jamaica, NY 11434; Officer: Nicholas Kim, Vice President (Qualifying Individual),

Peninsula Cargo, Inc., 11124 Narbel Avenue, Downey, CA 90241; Officers: Modesto M. Pascual, Vice President (Qualifying Individual), Roman Silvestre, President

Non-Vessel Operating Common Carrier and Ocean Freight Forwarder Transportation Intermediary Applicants

Global Freight International, Inc. d/b/a, Interfreight Corporation, P.O. Box 6432, 100 Everett Avenue, Chelsea, MA 02150; Officers: Bernard A. Wilcken, President (Qualifying Individual), Ian C. Wilcken, Secretary

Dated: May 5, 2000.
Bryant L. VanBrakle,
Secretary.

[FR Doc. 00-11714 Filed 5-9-00; 8:45 am]

BILLING CODE 6730-01-P